DEPARTMENT OF HOMELAND SECURITY

Coast Guard

46 CFR Parts 1, 2, 7, 9, 10, 11, 25, 27, 28, 31, 54, 70, 76, 112, 114, 121, 129, 131, 150, 154, 160, 177, 184, and 401

[Docket No. USCG-2010-0759]

RIN 1625-ZA27

Shipping; Technical, Organizational, and Conforming Amendments

AGENCY: Coast Guard, DHS.

ACTION: Final rule.

SUMMARY: This final rule makes non-substantive changes throughout Title 46 of the Code of Federal Regulations. The purpose of this rule is to make conforming amendments and technical corrections to Coast Guard regulations. This rule will have no substantive effect on the regulated public. These changes are provided to coincide with the annual recodification of Title 46 on October 1, 2010.

DATES: This final rule is effective September 29, 2010.

ADDRESSES: Comments and material received from the public, as well as documents mentioned in this preamble as being available in the docket, are part of docket USCG-2010-0759 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2010-0759 in the “Keyword” box, and then clicking “Search.”

FOR FURTHER INFORMATION CONTACT: If you have questions on this rule, call or e-mail Diane LaCumsky, Coast Guard; telephone 202-372-1025, e-mail Diane.M.LaCumsky@uscg.mil. If you have questions on viewing the docket, call Renee V. Wright, Program Manager, Docket Operations, telephone 202-366-9826.

SUPPLEMENTARY INFORMATION:

Table of Contents for Preamble

I. Regulatory History

II. Background

III. Discussion of Rule

IV. Regulatory Analyses

A. Regulatory Planning and Review

B. Small Entities

C. Collection of Information

D. Federalism

E. Unfunded Mandates Reform Act

F. Taking of Private Property

G. Civil Justice Reform

H. Protection of Children

I. Indian Tribal Governments

J. Energy Effects

K. Technical Standards

L. Environment

I. Regulatory History

We did not publish a notice of proposed rulemaking (NPRM) for this rule. Under 5 U.S.C. 553(b)(A) and (b)(B), we find that this rule is exempt from notice and comment rulemaking requirements because these changes involve rules of agency organization, procedure, or practice. In addition, good cause exists for not publishing an NPRM for all revisions in the rule because the revisions are all non-substantive changes. This rule consists only of corrections and editorial, organizational, and conforming amendments. These changes will have no substantive effect on the public; therefore, it is unnecessary to publish an NPRM. Under 5 U.S.C. 553(d)(3), the Coast Guard finds that, for the same reasons, good cause exists for making this rule effective upon publication in the Federal Register.

II. Background

Each year the printed edition of Title 46 of the Code of Federal Regulations is recodified on October 1. This rule, which becomes effective September 29, 2010, makes technical and editorial corrections throughout Title 46. This rule does not create any substantive requirements.

III. Discussion of Rule

This rule revises 46 Part 1 by deleting all references to “Assessment, Integration and Risk Management Directorate (CG-51),” as this directorate no longer exists.

This rule revises 46 Part 1 by deleting all references to “Office of Waterways Management (CG-541),” as this office no longer exists.

This rule revises 46 Part 1 by adding a reference to the “Office of International and Domestic Port Security (CG-541).” This new office was created under the existing Prevention Policy Directorate (CG-54).

This rule revises 46 Part 1 by adding a reference to “Marine Transportation Systems Management Directorate (CG-55).” This new directorate was created to manage the Coast Guard's portfolio of waterways management programs and assets and will coordinate Coast Guard activities to promote development of national and international consensus on waterways, management policies, goals, objectives, and strategies.

In addition, this rule revises 46 Part 1 by adding references to “Office of Bridge Programs (CG-551),” “Office of Marine Transportation Systems (CG-552),” and “Office of Navigation Systems (CG-553).” These new offices were created under the Marine Transportation Systems Management Directorate (CG-55).

This rule revises 46 CFR Part 2 by eliminating the requirement that an inspector must complete and submit “Form CG-858, Certificate of Inspections Amendment,” to amend a vessel's Certificate of Inspection. The paragraph will clarify that the original Certificate of Inspection may be amended and re-issued with the original renewal date pending approval of the Officer in Charge, Marine Inspection.

This rule revises 46 CFR Part 2 by removing references to a Letter of Compliance and to a Tank Vessel Examination Letter and replacing them with a reference to a Certificate of Compliance. Letters of Compliance and Tank Vessel Examination Letters are no longer issued, and were combined to form Certificates of Compliance in the mid-1990s. It also clarifies the office and the appropriate chain of command for actions regarding vessel fees.

This rule revises 46 CFR Part 2 by clarifying the chain-of-command procedure in various instances without making changes to the chain of command.

This rule revises 46 CFR Part 2 to add that a credit card or wire transfer is an acceptable form of payment for all fees required by subpart 2.10.

This rule revises 46 CFR Part 2 to update the address for mailing a payment made by check for vessel inspection and to add a new address for mailing a payment using a credit card.

This rule revises 46 CFR Part 2 to remove “midperiod” and add, in its place, “annual and periodic” to more accurately describe the period between inspections.

This rule revises 46 CFR Part 7 by correcting grammatical errors.

This rule revises 46 CFR Part 9 to remove “steamship,” as this is an outdated term which is no longer used to describe vessels.

This rule revises 46 CFR Part 10 to correct a table titled “Table 10.215(a)—Medical and Physical Requirements for Mariner Endorsement,” in which four pieces of data are located in the wrong columns.

This rule revises 46 CFR Part 28 to update the delegation of authority from the Secretary of Transportation to the Secretary of Homeland Security in an instance where it had not already been changed.

This rule revises 46 CFR Parts 31 and 70 to capitalize the word “office” in “Office of the Commandant.”

This rule revises 46 CFR Part 54 to remove a redundant paragraph and replace it with the paragraph originally intended. The 2009 CFR included similar paragraphs describing the pressure measurement restrictions for condensers and heat exchangers eligible for exemption from shop inspection. This rule removes the less specific, earlier version of the paragraph at § 54.01-15(a)(5) and leaves the more recently updated version of the paragraph, redesignating it as § 54.01-15(a)(5) from § 54.01-15(a)(4). This rule returns the original paragraph at § 54.01-15(a)(4) regarding Class I, II, and III pressure vessels, to its intended place. The original paragraph was present in the 2008 CFR but erroneously omitted from the 2009 publication.

This rule revises 46 CFR Part 129 to replace the word “part” with the word “subchapter” where “subchapter” is intended.

This rule revises 46 CFR Part 150 to correct a table with mislabeled footnotes.

This rule revises 46 CFR Part 154 to remove a redundant section at § 154.30.

This rule corrects 46 CFR Part 177 to make the metric value of 15 feet accurate. The section currently lists the metric value of 15 feet at 3.8 meters. This rule changes the metric value to 4.572 meters in every instance, ensuring consistency between the values when expressed in both metric and imperial units.

This rule updates various addresses for Coast Guard offices throughout Title 46 so that they conform to new mailing addresses and mailing address formats that came into use on June 15, 2009. This rule also updates internal Coast Guard office designators, as well as certain organizational titles, throughout Title 46. Changes in organizational titles included in this rule are only technical revisions reflecting changes in agency procedure and organization, and do not indicate new authorities.

Throughout Title 46, this rule removes all references to Loran towers and coordinates, which are no longer in use, and changes all references to Search and Rescue Transponders (SARTs) to Search and Rescue Transmitters (SARTs), as transponders are no longer in use.

This rule updates various citations to the CFR that were overlooked in past revisions of Title 46.

IV. Regulatory Analyses

We developed this rule after considering numerous statutes and executive orders related to rulemaking. Below we summarize our analyses based on 12 of these statutes or executive orders.

A. Regulatory Planning and Review

This rule is not a significant regulatory action under section 3(f) of Executive Order 12866, Regulatory Planning and Review. The Office of Management and Budget has not reviewed it under that Order. Because this rule involves non-substantive changes and addresses internal agency practices and procedures, it will not impose additional costs on the public.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

We estimate that this rule will not impose additional costs and should have little or no impact on small entities because the provisions of this rule are technical and non-substantive. Therefore, the Coast Guard certifies under 5 U.S.C. 605(b) that this final rule will not have a significant economic impact on a substantial number of small entities.

C. Collection of Information

This rule calls for no new collection of information under the Paperwork Reduction Act of 1995 (44 U.S.C. 3501-3520).

D. Federalism

A rule has implications for federalism under Executive Order 13132, Federalism, if it has a substantial direct effect on State or local governments and would either preempt State law or impose a substantial direct cost of compliance on them. We have analyzed this rule under that Order and have determined that it does not have implications for federalism.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Taking of Private Property

This rule will not cause a taking of private property or otherwise have taking implications under Executive Order 12630, Governmental Actions and Interference with Constitutionally Protected Property Rights.

G. Civil Justice Reform

This rule meets applicable standards in sections 3(a) and 3(b)(2) of Executive Order 12988, Civil Justice Reform, to minimize litigation, eliminate ambiguity, and reduce burden.

H. Protection of Children

We have analyzed this rule under Executive Order 13045, Protection of Children from Environmental Health Risks and Safety Risks. This rule is not an economically significant rule and does not create an environmental risk to health or risk to safety that may disproportionately affect children.

I. Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

J. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

K. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

L. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule is categorically excluded under section 2.B.2, figure 2-1, paragraph (34)(a) of the Instruction. This rule involves regulations that are editorial and procedural, such as those updating addresses or establishing application procedures. An environmental analysis checklist and a categorical exclusion determination are available in the docket where indicated under ADDRESSES.

List of Subjects

46 CFR Part 1

Administrative practice and procedure, Organization and functions (Government agencies), Reporting and recordkeeping requirements.

46 CFR Part 2

Marine safety, Reporting and recordkeeping requirements, Vessels.

46 CFR Part 7

Law enforcement, Vessels.

46 CFR Part 9

Government employees, Vessels, Wages.

46 CFR Part 10

Penalties, Reporting and recordkeeping requirements, Schools, Seamen.

46 CFR Part 11

Incorporation by reference, Penalties, Reporting and recordkeeping requirements, Schools, Seamen.

46 CFR Part 25

Fire prevention, Penalties, Marine safety, Reporting and recordkeeping requirements.

46 CFR Part 27

Fire prevention, Marine safety, Reporting and recordkeeping requirements, Vessels.

46 CFR Part 28

Alaska, Fire prevention, Fishing vessels, Marine safety, Occupational safety and health, Reporting and recordkeeping requirements, Seamen.

46 CFR Part 31

Cargo vessels, Marine safety, Reporting and recordkeeping requirements.

46 CFR Part 54

Reporting and recordkeeping requirements, Vessels.

46 CFR Part 70

Marine safety, Passenger vessels, Reporting and recordkeeping requirements.

46 CFR Part 76

Fire prevention, Marine safety, Passenger vessels.

46 CFR Part 112

Vessels.

46 CFR Part 114

Marine safety, Passenger vessels, Reporting and recordkeeping requirements.

46 CFR Part 121

Communications equipment, Marine safety, Navigation (water), Passenger vessels.

46 CFR Part 129

Cargo vessels, Hazardous materials transportation, Marine safety, Reporting and recordkeeping requirements.

46 CFR Part 131

Cargo vessels, Fire prevention, Marine safety, Navigation (water), Occupational safety and health, Reporting and recordkeeping requirements.

46 CFR Part 150

Hazardous materials transportation, Marine safety, Occupational safety and health, Reporting and recordkeeping requirements.

46 CFR Part 154

Cargo vessels, Gases, Hazardous materials transportation, Marine safety, Reporting and recordkeeping requirements.

46 CFR Part 160

Marine safety, Reporting and recordkeeping requirements.

46 CFR Part 177

Marine safety, Passenger vessels, Reporting and recordkeeping requirements.

46 CFR Part 184

Communications equipment, Marine safety, Navigation (water), Passenger vessels, Reporting and recordkeeping requirements.

46 CFR Part 401

Administrative practice and procedure, Great Lakes, Navigation (water), Penalties, Reporting and recordkeeping requirements, Seamen.

For the reasons discussed in the preamble, the Coast Guard amends 46 CFR parts 1, 2, 7, 9, 10, 11, 25, 27, 28, 31, 54, 70, 76, 112, 114, 121, 129, 131, 150, 154, 160, 177, 184, and 401.

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

§ 1.01-10 [Amended]

2. Amend § 1.01-10 as follows:

a. Revise paragraph (b)(1) introductory text to read as set out below.

b. Remove paragraph (b)(1)(iii) and redesignate paragraph (b)(1)(iv) as paragraph (b)(1)(iii).

§ 1.01-10 Organization.

* * * * *

(b) * * *

(1) The Assistant Commandant for Marine Safety, Security, and Stewardship (CG-5), under the general direction of the Commandant, directs, supervises, and coordinates the activities of: The Commercial Regulations and Standards Directorate (CG-52), consisting of the Office of Design and Engineering Standards (CG-521), the Office of Operating and Environmental Standards (CG-522), and the Office of Standards Evaluation and Development (CG-523); the Response Policy Directorate (CG-53), consisting of the Office of Law Enforcement (CG-531), the Office of Counterterrorism and Defense Operations (CG-532), the Office of Incident Management and Preparedness (CG-533), the Office of Search and Rescue (CG-534), and the Office of Contingency Exercises (CG-535); the Prevention Policy Directorate (CG-54), consisting of the Office of International and Domestic Port Security (CG-541), the Office of Auxiliary and Boating Safety (CG-542), the Office of Vessel Activities (CG-543), the Office of Port and Facility Activities (CG-544), the Office of Investigations and Casualty Analysis (CG-545); and the Marine Transportation and Systems Management Directorate (CG-55), consisting of the Office of Bridge Programs (CG-551), the Office of Marine Transportation Systems (CG-552), and the Office of Navigation Systems (CG-553). The Deputy Commandant for Operations (CG-DCO), under the general direction of the Commandant, directs, supervises, and coordinates the activities of the Operations Resource Management Directorate (CG-DCO-R), consisting of the Office of Workforce Management (CG-DCO-R-1), the Office of Budget Development (CG-DCO-R-2), the Office of Budget Execution (CG-DCO-R-3), and the Office of Information Resources (CG-DCO-R-6). The Port Safety and Security programs administered by the Chief, Office of Vessel Activities (CG-543), and the Marine Environmental Response programs administered by the Chief, Office of Incident Management and Preparedness (CG-533), are guided by regulations contained in 33 CFR chapter I. The Assistant Commandant for Marine Safety, Security, and Stewardship (CG-5) exercises technical control over the Commanding Officer, National Maritime Center (NMC), and, through the District Commander, supervises the administration of the Marine Safety Division of District Offices and Officers in Charge, Marine Inspection.

* * * * *

PART 2—VESSEL INSPECTIONS

3. The authority citation for part 2 continues to read as follows:

Authority: 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1. Subpart 2.45 also issued under the Act Dec. 27, 1950, Ch. 1155, secs. 1, 2, 64 Stat. 1120 (see 46 U.S.C. App. Note prec. 1).

4. Revise § 2.01-5(c) to read as follows:

§ 2.01-5 Certificate of inspection.

* * * * *

(c) Amending certificates. When, because of a change in the character of the vessel or vessel's route, equipment, etc., the vessel does not comply with the requirements of the Certificate of Inspection previously issued, an amended certificate may be issued at the discretion of the Officer in Charge, Marine Inspection, to whom a request is made.

5. Revise § 2.01-6 to read as follows:

§ 2.01-6 Certificates issued to foreign vessels.

(a) Issuance of a Certificate of Compliance (COC). Foreign vessels of countries which are signatory to the International Convention for the Safety of Life at Sea, 1974, are issued a Certificate of Compliance (CG-3585) upon satisfactory completion of a compliance examination by the Officer in Charge, Marine Inspection:

(1) A foreign passenger vessel that is registered in a country which is signatory to the International Convention for the Safety of Life at Sea, 1974, visits U.S. ports with U.S. citizens as passengers or embarks passengers in U.S. ports, and holds a valid Passenger Ship Safety Certificate;

(2) A foreign vessel that is suitable for carriage of hazardous cargoes in bulk as defined in 46 CFR subchapter 0 and is in compliance with Tankship Cargo Venting and Handling Systems and Minimum Pollution Prevention Regulations and Transfer Procedures (33 CFR parts 155, 156, 157, and 159), and Navigation Safety Inspection Regulations (33 CFR part 164);

(3) A foreign Mobile Offshore Drilling Unit that complies with standards listed in 33 CFR 143.207 and is engaged in U.S. Outer Continental Shelf activities;

(4) A foreign vessel that is suitable for carriage of cargoes as defined in 46 CFR subchapter D and is in compliance with Tankship Cargo Venting and Handling Systems and Minimum Safety Standards (SOLAS 74—46 CFR part 35), Pollution Prevention Regulations and Transfer Procedures (33 CFR parts 155, 156, 157, and 159), and Navigation Safety Regulations (33 CFR part 164).

(b) Foreign vessels of countries which are non-signatory to the International Convention for the Safety of Life at Sea, 1974, are issued a Temporary Certificate of Inspection (CG-854) and a Certificate of Inspection (CG-841), respectively, as described in § 2.01-5. Any amendments to these certificates shall be accomplished in accordance with § 2.01-5(c).

(c) Description of COC. CG-3585 describes the vessel's particulars, type of vessel examined, type of certificate(s) required by the International Convention for Safety of Life at Sea, 1974, the period of validity, subsequent exams required to maintain the certificates validity, the Officer in Charge, Marine Inspection zone where the exam was completed in and if there are any deficiencies as to applicable regulations at the time the vessel was examined. If there are deficiencies issued, they are listed in the examination record section of the COC.

§ 2.10-1 [Amended]

6. In § 2.10-1(a), after the words “foreign vessels required to have”, remove the words “either a Letter of Compliance or a Tank Vessel Examination Letter” and add, in their place, the words “a Certificate of Compliance”.

7. In § 2.10-5, add a third sentence to paragraph (d) to read as follows:

§ 2.10-5 Exemptions.

* * * * *

(d) * * * The Officer in Charge, Marine Inspection will endorse and forward the request to Commandant (CG-DCO-83) for decision.

§ 2.10-10 [Amended]

8. Amend § 2.10-10 as follows:

a. Remove the text “CG-DCO-R-3” and add, in its place, the text “CG-DCO-83”; and

b. Remove the text “G-MRP” and add, in its place, the text “CG-DCO-83”.

9. Amend § 2.10-20 as follows:

a. In paragraph (b), add a second sentence;

b. Revise paragraph (d);

c. In paragraph (e), remove the text “CG-DCO-R-3” and add, in its place, the text “CG-DCO-83”;

d. In paragraph (e), remove the text “G-MRP” and add, in its place, the text “CG-DCO-83”; and

e. In paragraph (f), remove the words “Marine Safety or Marine Inspection Office” and add, in their place, the words “Coast Guard Sector, Officer in Charge, Marine Inspection, or Marine Safety Detachment”.

The addition and revision read as follows:

§ 2.10-20 General Requirements.

* * * * *

(b) * * * Payment may also be made by credit card or wire transfer.

* * * * *

(d) Unless otherwise specified, fees required by this subpart must be mailed to the following addresses: For payment by credit card, U.S. Coast Guard Finance Center (OGR), 1430A Kristina Way, Chesapeake, VA 23326; For payment by check, made payable to U.S. Treasury, with delivery by postal service, USCG Inspection Fees, P.O. Box 70952, Charlotte, NC 28272-0952; or by overnight courier, Wachovia QLP Lockbox-D1113-022, Lockbox 70952, 1525 West WT Harris Blvd., Charlotte, NC 28262.

* * * * *

§ 2.10-101 [Amended]

10. Amend § 2.10-101(c) by removing the word “midperiod” and adding, in its place, the words “annual and periodic”.

11. Amend § 2.10-105 as follows:

a. In paragraph (b), remove the text “CG-DCO-R-3” and add, in its place, the text “CG-DCO-83”; and

b. In paragraph (e), add a fourth sentence to read as follows:

§ 2.10-105 Prepayment of annual vessel inspection fees.

* * * * *

(e) * * * The Officer in Charge, Marine Inspection will endorse and forward the request to Commandant (CG-DCO-83) for decision.

§ 2.10-115 [Amended]

12. Amend § 2.10-115(b) by removing the text “CG-DCO-R-3” and adding, in its place, the text “CG-DCO-83”.

§ 2.10-125 [Amended]

13. Amend § 2.10-125 as follows:

a. In paragraph (a), remove the word “Letter” wherever it appears and add, in its place, the word “Certificate”; and

b. In paragraph (b), remove the words “Tank Vessel Examination Letter” and add, in their place, the words “Certificate of Compliance”.

§ 2.10-130 [Amended]

14. Amend § 2.10-130 as follows:

a. In paragraph (a), remove the word “Letter” and add, in its place, the word “Certificate”; and

b. In paragraph (b), remove the word “Letter” and add, in its place, the word “Certificate”.

§ 2.75-1 [Amended]

15. Amend § 2.75-1(c) by removing the words “Environmental Protection” wherever they appear and adding, in their place, the word “Stewardship”.

PART 7—BOUNDARY LINES

16. The authority citation for part 7 continues to read as follows:

Authority: 14 U.S.C. 633; 33 U.S.C. 151, 1222; Department of Homeland Security Delegation No. 0170.1.

17. Revise § 7.65 to read as follows:

§ 7.65 Charleston Harbor, SC.

A line drawn from Charleston Light on Sullivans Island to latitude 32°40.7′ N. longitude 79°42.9′ W. (Charleston Lighted Whistle Buoy “2C”); thence to a point on Folly Island at latitude 32°41.0′ N. longitude 79°53.2′ W.

PART 9—EXTRA COMPENSATION FOR OVERTIME SERVICES

18. The authority citation for part 9 continues to read as follows:

Authority: 46 U.S.C. 2103; Department of Homeland Security Delegation No. 0170.1.

§ 9.14 [Amended]

19. In § 9.14, after the words “fees against”, remove the word “steamship”.

PART 10—MERCHANT MARINER CREDENTIAL

20. The authority citation for part 10 continues to read as follows:

Authority: 14 U.S.C. 633; 31 U.S.C. 9701; 46 U.S.C. 2101, 2103, 2110; 46 U.S.C. chapter 71; 46 U.S.C. chapter 72; 46 U.S.C. chapter 75; 46 U.S.C. 7701, 8906 and 70105; Executive Order 10173; Department of Homeland Security Delegation No. 0170.1.

21. Amend § 10.215(a) by revising Table 10.215(a) to read as follows:

Table 10.215(a)—Medical and Physical Requirements for Mariner Endorsements
Credential | Vision test | Hearing test | General medical exam | Demonstration of physical ability
(i) Deck officer, including pilot | § 10.215(b)(1) | § 10.215(c) | § 10.215(d)(1) | § 10.215(e)(1)
(ii) Engineering officer | § 10.215(b)(2) | § 10.215(c) | § 10.215(d)(1) | § 10.215(e)(1)
(iv) Radio officer | § 10.215(b)(2) | § 10.215(c) | § 10.215(d)(1) | § 10.215(e)(1)
(v) Offshore installation manager, barge supervisor, or ballast control operator | § 10.215(b)(2) | § 10.215(c) | § 10.215(d)(1) | § 10.215(e)(1)
(vi) Able seaman | § 10.215(b)(1) | § 10.215(c) | § 10.215(d)(1) | § 10.215(e)(1)
(vii) QMED | § 10.215(b)(2) | § 10.215(c) | § 10.215(d)(1) | § 10.215(e)(1)
(viii) RFPNW | § 10.215(b)(1) | § 10.215(c) | § 10.215(d)(1) | § 10.215(e)(1)
(ix) RFPEW | § 10.215(b)(2) | § 10.215(c) | § 10.215(d)(1) | § 10.215(e)(1)
(x) Tankerman | § 10.215(b)(2) | § 10.215(c) | § 10.215(d)(1) | § 10.215(e)(1)
(xi) Food handler serving on vessels to which STCW does not apply |  |  | § 10.215(d)(2) |
(xii) Food handler serving on vessels to which STCW applies |  |  | § 10.215(d)(2) | § 10.215(e)(1)
(xiii) Ratings, including entry level, serving on vessels to which STCW applies, other than those listed above |  |  |  | § 10.215(e)(2)

* * * * *

PART 11—REQUIREMENTS FOR OFFICER ENDORSEMENTS

22. The authority citation for part 11 continues to read as follows:

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

§ 11.302 [Amended]

23. Amend § 11.302(g) by removing the text “§ 1.03-45” and adding, in its place, the text “§ 1.03-40”.

PART 25—REQUIREMENTS

24. The authority citation for part 25 continues to read as follows:

Authority: 33 U.S.C. 1903(b); 46 U.S.C. 3306, 4102, 4302; Department of Homeland Security Delegation No. 0170.1.

§ 25.01-3 [Amended]

25-26. Amend § 25.01-3(a), third sentence, by removing the words “Office of Compliance” and adding, in their place, the words “Office of Vessel Activities”, and in paragraph (b) by removing the words “3069 Solomons Island Road, Edgewater, MD 21037” and adding, in their place, the words “613 Third Street, Suite 10, Annapolis, MD 21403”.

PART 27—TOWING VESSELS

27. The authority citation for part 27 continues to read as follows:

Authority: 46 U.S.C. 3306, 4102 (as amended by Pub. L. 104-324, 110 Stat. 3901); Department of Homeland Security Delegation No. 0170.1.

§ 27.102 [Amended]

28. Amend § 27.102(b), in the table heading, by removing the words “3069 Solomons Island Road, Edgewater, MD 21037” and adding, in their place, the words “613 Third Street, Suite 10, Annapolis, MD 21403”.

PART 28—REQUIREMENTS FOR COMMERCIAL FISHING INDUSTRY VESSELS

29. The authority citation for part 28 continues to read as follows:

Authority: 46 U.S.C. 3316, 4502, 4505, 4506, 6104, 10603; Department of Homeland Security Delegation No. 0170.1.

§ 28.10 [Amended]

30. Amend § 28.10 as follows:

a. After the words “pursuant to a delegation of authority by the”, remove the words “Secretary of Transportation” and add, in their place, the words “Secretary of Homeland Security”; and

b. After the words “set forth in”, remove the words “49 CFR 1.46(b)” and add, in their place, the words “Department of Homeland Security Delegation No. 0170.1”.

§ 28.40 [Amended]

31. Amend § 28.40(b), in the table heading, by removing the words “3069 Solomons Island Road, Edgewater, MD 21037” and adding, in their place, the words “613 Third Street, Suite 10, Annapolis, MD 21403”.

§ 28.50 [Amended]

32. In § 28.50, in the definition of Coast Guard Representative, remove the words “Fishing Vessels Safety Division” and add, in their place, the words “Fishing Vessels Division”.

§ 28.265 [Amended]

33. Amend § 28.265(d)(4)(vii) by removing the words “LORAN coordinate,”.

§ 28.820 [Amended]

34. In 28.820(a)(2), second sentence, after the words “bilge system requirements of”, remove the text “§ 28.760(c)” and add, in its place, the text “§ 28.255(d)”.

PART 31—INSPECTION AND CERTIFICATION

35. The authority citation for part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

§ 31.10-1 [Amended]

36. In § 31.10-1(b), third sentence, after the words “examined at the”, remove the words “office of the Commandant” and add, in their place, the words “Office of the Commandant”.

PART 54—PRESSURE VESSELS

37. The authority citation for part 54 continues to read as follows:

Authority: 33 U.S.C. 1509; 43 U.S.C. 1333; 46 U.S.C. 3306, 3703; E.O. 12234, 45 FR 58801, 3 CFR, 1980 Comp., p. 277; Department of Homeland Security Delegation No. 0170.1.

38. In § 54.01-15, revise paragraphs (a)(4) and (a)(5) to read as follows:

§ 54.01-15 Exemptions from shop inspection and plan approval (modifies U-1(c)(2)).

* * * * *

(a) * * *

(4) Class I, II, and III pressure vessels that meet the requirements of § 54.01-5(c)(3) and (c)(4).

(5) Condensers and heat exchangers, regardless of size, when the design is such that the liquid phase is not greater than 689 kPa (100 psig) and 200 °F (93 °C) and the vapor phase is not greater than 103 kPa (15 psig) provided that the Officer in Charge, Marine Inspection is satisfied that system overpressure conditions are addressed by the owner or operator.

* * * * *

PART 70—GENERAL PROVISIONS

39. The authority citation for part 70 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1; Section 70.01-15 also issued under the authority of 44 U.S.C. 3507.

§ 70.35-5 [Amended]

40. In § 70.35-5(a), second sentence, after the words “examined at the”, remove the words “office of the Commandant” and add, in their place, the words “Office of the Commandant”.

PART 76—FIRE PROTECTION EQUIPMENT

41. The authority citation for part 76 continues to read as follows:

Authority: 46 U.S.C. 3306; E.O. 12234, 45 FR 58801, 3 CFR, 1980 Comp., p. 277; Department of Homeland Security Delegation No. 0170.1.

§ 76.15-5 [Amended]

42. Amend § 76.15-5(e)(3) by removing the words “paragraph (e)” and adding, in their place, the words “paragraph (d)”.

PART 112—EMERGENCY LIGHTING AND POWER SYSTEMS

43. The authority citation for part 112 continues to read as follows:

Authority: 46 U.S.C. 3306, 3703; Department of Homeland Security Delegation No. 0170.1.

§ 112.15-5 [Amended]

44. Amend § 112.15-5(j) by removing the word “loran,”.

PART 114—GENERAL PROVISIONS

45. The authority citation for part 114 continues to read as follows:

Authority: 46 U.S.C. 2103, 3306, 3703; Pub. L. 103-206, 107 Stat. 2439; 49 U.S.C. App. 1804; Department of Homeland Security No. 0170.1; § 114.900 also issued under 44 U.S.C. 3507.

§ 114.600 [Amended]

46. Amend § 114.600(b) by removing the words “3069 Solomons Island Road, Edgewater, MD 21037” and adding, in their place, the words “613 Third Street, Suite 10, Annapolis, MD 21403”.

PART 121—VESSEL CONTROL AND MISCELLANEOUS SYSTEMS AND EQUIPMENT

47. The authority citation for part 121 continues to read as follows:

Authority: 46 U.S.C. 2103, 3306; E.O. 12234, 45 FR 58801, 3 CFR, 1980 Comp., p. 277; Department of Homeland Security Delegation No. 0170.1.

§ 121.510 [Amended]

48. Amend § 121.510(a)(7) by removing the words “LORAN coordinates,”.

PART 129—ELECTRICAL INSTALLATIONS

49. The authority citation for part 129 continues to read as follows:

Authority: 46 U.S.C. 3306; Department of Homeland Security Delegation No. 0170.1.

§ 129.110 [Amended]

50. Amend § 129.110 by removing the word “part” and adding, in its place, the word “subchapter”.

PART 131—OPERATIONS

51. The authority citation for part 131 continues to read as follows:

Authority: 33 U.S.C. 1321(j); 46 U.S.C. 3306, 6101, 10104; E.O. 12234, 3 CFR, 1980 Comp., p. 277; E.O. 12777, 3 CFR, 1991 Comp., p. 351; Department of Homeland Security Delegation No. 0170.1.

§ 131.890 [Amended]

52. Amend § 131.890 by removing the word “Transponder” and adding, in its place, the word “Transmitter”.

PART 150—COMPATIBILITY OF CARGOES

53. The authority citation for part 150 continues to read as follows:

Authority: 46 U.S.C. 3306, 3703; Department of Homeland Security Delegation No. 0170.1. Section 150.105 issued under 44 U.S.C. 3507; Department of Homeland Security Delegation No. 0170.1.

Table 1 to Part 150 [Amended]

54. In Table 1 to Part 150, in the “Footnote” column, remove the numeral “2” for each row that includes the following in the “Chemical name” column:

a. Alkyl acrylate-Vinyl pyridine copolymer in Toluene

b. Alkyl(C3-C4)benzenes

c. Alkyl(C5-C8)benzenes

d. Alkyl(C9+)benzenes

e. Alkylbenzene, Alkylindane, Alkylindene mixture (each C12-C17)

f. Benzene hydrocarbon mixtures (having 10% Benzene or more)

g. Butylbenzene, see Alky(C3-C4)benzenes

h. Butyl phenol, Formaldehyde resin in Xylene

i. Butyl toluene

j. Cymene

k. Decylbenzene, see Alkyl(C9+) benzenes

l. Dialkyl(C10-C14) benzenes, see Alkyl(C9+) benzenes

m. Dichloromethane

n. Diethylbenzene

o. Diisopropylbenzene

p. Diisopropyl naphthalene

q. Diphenyl

r. Dodecanol

s. Dodecylamine, Tetradecylamine mixture

t. Dodecyl hydroxypropyl sulfide

u. Ethylbenzene

v. Ethyl toluene

w. 1-Hexadecylnaphthalene, 1,4-bis(Hexadecyl)naphthalene mixture

x. Methyl naphthalene

y. Naphthalene

z. 1-Phenyl-1-xylyl ethane

aa. Poly(2+)cyclic aromatics

bb. Polyolefinamine in alkyl(C2-C4)benzenes

cc. Sulfuric acid, spent

dd. Tetradecylbenzene, see Alkyl(C9+) benzenes

ee. Tetrahydronaphthalene

ff. Tetramethylbenzene

gg. Titanium tetrachloride

hh. Toluene

ii. Xylene

jj. Xylenes, Ethylbenzene mixture

PART 154—SAFETY STANDARDS FOR SELF-PROPELLED VESSELS CARRYING BULK LIQUEFIED GASES

55. The authority citation for part 154 continues to read as follows:

Authority: 46 U.S.C. 3703, 9101; Department of Homeland Security Delegation No. 0170.1.

§ 154.30 [Removed and Reserved]

56. Remove and reserve § 154.30.

PART 160—LIFESAVING EQUIPMENT

57. The authority citation for part 160 continues to read as follows:

Authority: 46 U.S.C. 2103, 3306, 3703 and 4302; E.O. 12234, 45 FR 58801, 3 CFR, 1980 Comp., p. 277; 49 CFR 1.46.

§ 160.151-57 [Amended]

58. Amend § 160.151-57(b)(8) by removing the word “Transponder” and adding, in its place, the word “Transmitter”.

PART 177—CONSTRUCTION AND ARRANGEMENT

59. The authority citation for part 177 continues to read as follows:

Authority: 46 U.S.C. 2103, 3306; E.O. 12234, 45 FR 58801, 3 CFR, 1980 Comp., p. 277; Department of Homeland Security Delegation No. 0170.1.

§ 177.820 [Amended]

60. Amend § 177.820 in paragraphs (d)(1) and (2) by removing the words “3.8 meters” and adding, in their places, the words “4.572 meters”.

PART 184—VESSEL CONTROL AND MISCELLANEOUS SYSTEMS AND EQUIPMENT

61. The authority citation for part 184 continues to read as follows:

Authority: 46 U.S.C. 2103, 3306; E.O. 12234, 45 FR 58801, 3 CFR, 1980 Comp., p. 277; Department of Homeland Security Delegation No. 0170.1.

§ 184.510 [Amended]

62. Amend § 184.510(a)(7) by removing the words “LORAN coordinates,”.

PART 401—GREAT LAKES PILOTAGE REGULATIONS

63. The authority citation for part 401 continues to read as follows:

Authority: 46 U.S.C. 2104(a), 6101, 7701, 8105, 9303, 9304; Department of Homeland Security Delegation No. 0170.1; 46 CFR 401.105 also issued under the authority of 44 U.S.C. 3507.

§ 401.110 [Amended]

64. Amend § 401.110(a)(9) by removing the text “CG-54122” and adding, in its place, the text “CG-5522”.

Dated: September 17, 2010.
Sandra Selman,
Acting Chief, Office of Regulations and Administrative Law, United States Coast Guard.

[FR Doc. 2010-23766 Filed 9-28-10; 8:45 am]

BILLING CODE 9110-04-P